DEPARTMENT OF DEFENSE

Office of the Secretary

Federal Advisory Committee; Threat Reduction Advisory Committee; Correction

AGENCY: Office of the Under Secretary of Defense (Acquisition, Technology and Logistics); DoD.

ACTION: Notice of closed meeting; correction.

SUMMARY: On September 30, 2010 (75 FR 60430) the Department of Defense published a notice in the Federal Register announcing an October 21, 2010, meeting of the Threat Reduction Advisory Committee in Chantilly, VA. The Department is now announcing that the October 21 meeting has been cancelled.

FOR FURTHER INFORMATION CONTACT: Designated Federal Officer or Point of Contact: Mr. Eric Wright, Defense Threat Reduction Agency/AST, 8725 John J. Kingman Road, MS 6201, Fort Belvoir, VA 22060-6201, or by e-mail: eric.wright@dtra.mil, phone: (703) 767-4759, fax: (703) 767-5701.

Dated: October 15, 2010.
Mitchell S. Bryman,
Alternate OSD Federal Register Liaison Officer, Department of Defense.

[FR Doc. 2010-26411 Filed 10-19-10; 8:45 am]

BILLING CODE 5001-06-P